DEPARTMENT OF HEALTH AND HUMAN SERVICES

Centers for Medicare & Medicaid Services

42 CFR Part 418

[CMS-1835-CN]

RIN 0938-AV49

Medicare Program; FY 2026 Hospice Wage Index and Payment Rate Update and Hospice Quality Reporting Program Requirements; Correction

AGENCY: Centers for Medicare & Medicaid Services (CMS), HHS.

ACTION: Final rule; correction.

SUMMARY: This document corrects typographical errors in the final rule that appeared in the August 5, 2025 Federal Register titled “Medicare Program; FY 2026 Hospice Wage Index and Payment Rate Update and Hospice Quality Reporting Program Requirements” (hereinafter referred to as the “FY 2026 Hospice final rule”). The effective date of the FY 2026 Hospice final rule is October 1, 2025.

DATES: This correction is effective October 1, 2025.

FOR FURTHER INFORMATION CONTACT: For questions regarding the hospice quality reporting program, contact Jermama Keys at (410) 786-7778.

SUPPLEMENTARY INFORMATION:

I. Background

In FR Doc. 2025-14782 of August 5, 2025 (90 FR 37404), there were typographical errors that are identified and corrected in this correcting document.

II. Summary of Errors

On page 37404, we inadvertently included a sentence referencing requests for information.

On page 37425, in Table 8, we inadvertently omitted the words “or completion”.

III. Waiver of Proposed Rulemaking

Under section 553(b) of the Administrative Procedure Act (the APA) (5 U.S.C. 553(b)), the agency is required to publish a notice of proposed rulemaking in the Federal Register before the provisions of a rule take effect. Similarly, section 1871(b)(1) of the Social Security Act (the Act) requires the Secretary to provide for notice of the proposed rule in the Federal Register and provide a period of not less than 60 days for public comment. In addition, section 553(d) of the APA and section 1871(e)(1)(B)(i) of the Act mandate a 30-day delay in effective date after issuance or publication of a rule. Sections 553(b)(B) and 553(d)(3) of the APA provide for exceptions from the APA notice and comment, and delay in effective date requirements, respectively; sections 1871(b)(2)(C) and 1871(e)(1)(B)(ii) of the Act provide exceptions from the notice and 60-day comment period and delay in effective date requirements of the Act, respectively, as well. Section 553(b)(B) of the APA and section 1871(b)(2)(C) of the Act authorize an agency to dispense with normal notice and comment rulemaking procedures for good cause if the agency makes a finding that the notice and comment process is impracticable, unnecessary, or contrary to the public interest, and includes a statement of the finding and the reasons for it in the rule. In addition, section 553(d)(3) of the APA and section 1871(e)(1)(B)(ii) of the Act allow the agency to avoid the 30-day delay in effective date where such delay is contrary to the public interest and the agency includes in the rule a statement of the finding and the reasons for it. We believe that this correcting document does not constitute a rule that would be subject to the notice and comment or delayed effective date requirements described above. This correcting document corrects typographical errors in the preamble and a table included in the FY 2026 Hospice final rule but does not make substantive changes to the policies or payment methodologies that were adopted in the FY 2026 Hospice final rule. As a result, this correcting document is intended to ensure that the information in the FY 2026 Hospice final rule accurately reflects the policies adopted in that document.

In addition, even if this were a rule to which the notice and comment procedures and delayed effective date requirements applied, we find that there is good cause to waive such requirements. Undertaking further notice and comment procedures to incorporate the corrections in this correcting document into the final rule or delaying the effective date would be contrary to the public interest because it is in the public's interest for providers to receive appropriate payments in as timely a manner as possible, and to ensure that the FY 2026 Hospice final rule accurately reflects our policies. Furthermore, such procedures would be unnecessary, as we are not altering our payment methodologies or policies, but rather, we are simply correctly implementing the policies that we previously proposed, requested comment on, and subsequently finalized. This correcting document is intended solely to ensure that the FY 2026 Hospice final rule accurately reflects these payment methodologies and policies. For these reasons, we believe we have good cause to waive the notice and comment and delayed effective date requirements.

IV. Correction of Errors

In FR Doc. 2025-14782 of August 5, 2025 (90 FR 37404), make the following corrections:

1. On page 37404, third column, second full paragraph, lines 7 through 10, the sentence “This section also provides RFIs related to the transition to digital measures, nutrition, and wellbeing concepts.” is removed.

2. On page 37425, Table 8, column 2, row 2, lines 1 through 4, the sentence “Submit at least 90 percent of all HOPE records within 30 days of the event date (for example, patient's admission date, HUV completion date or discharge date) for patient admissions/discharges occurring 1/1/27-12/31-2027.” is corrected to read, “Submit at least 90 percent of all HOPE records within 30 days of the event or completion date (for example, patient's admission date HUV completion date or discharge date) for patient admissions/discharges occurring 1/1/27-12/31/27.”.

Cortney L. McCormick,
Executive Secretary to the Department, Department of Health and Human Services.

[FR Doc. 2025-16960 Filed 9-3-25; 8:45 am]

BILLING CODE 4120-01-P